DEPARTMENT OF COMMERCE

National Oceanic and Atmospheric Administration

[061101F]

Emergency Beacon Registrations

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before August 13, 2001.

ADDRESSES: Direct all written comments to Madeleine Clayton, Departmental Paperwork Clearance Officer, Department of Commerce, Room 6086, 14th and Constitution Avenue NW, Washington DC 20230 (or via the Internet at MClayton@doc.gov).

FOR FURTHER INFORMATION CONTACT: Requests for additional information or copies of the information collection instrument(s) and instructions should be directed to Mr. Ajay Mehta, SARSAT Program Manager, E/SP3, Rm 3320, FB-4 NOAA, 5200 Auth Road, Suitland, MD 20746-4304 (phone 301-457-5678).

SUPPLEMENTARY INFORMATION:

I. Abstract

An international system exists to use satellites to detect and locate ships, aircraft, or individuals in distress if they are equipped with an emergency radio beacon. Persons purchasing such a beacon must register it with NOAA. The data provided by registration can assist in identifying who is in trouble and in suppressing false alarms.

II. Method of Collection

Respondents complete a paper form (also available off of a Web site) and mail or fax the form to NOAA.

III. Data

OMB Number: 0648-0295.

Form Number: None.

Type of Review: Regular submission.

Affected Public: Individuals or households, business or other for-profit organizations, not-for-profit institutions, and state, local, or tribal government.

Estimated Number of Respondents: 10,000.

Estimated Time Per Response: 15 minutes.

Estimated Total Annual Burden Hours: 2,500.

Estimated Total Annual Cost to Public: $3,000.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: Dated: June 8, 2001
Gwellnar Banks,
Management Analyst, Office of the Chief Information Officer.

[FR Doc. 01-15062 Filed 6-13-01; 8:45 am]

BILLING CODE 3510-HR-S